DEPARTMENT OF ENERGY

Federal Energy Regulatory Commission

[Docket No. RM06-7-000]

Proposed Amendments to Blanket Construction Certificates; Notice of Petition for Rulemaking

December 5, 2005.

On November 22, 2005, the Interstate Natural Gas Association of America and the Natural Gas Supply Association filed a petition under § 385.2087(a) of the Commission's regulations seeking a rulemaking to make certain regulatory and policy changes that they contend will improve the ability of the natural industry to ensure the adequacy of the interstate pipeline infrastructure.

Specifically, the petition seeks a rulemaking to eliminate the exclusion of mainline expansions, underground storage enhancements, and LNG take-away facilities from blanket eligibility under § 157.202(b)(2)(ii)(C) and (D) of the Commission's regulations. They also request that the Commission revise the blanket dollar limits under § 157.208(d) of the Commission's regulations to reflect updated project development and construction costs. Finally, they ask that the Commission issue a policy statement or rule to clarify that it would not constitute undue discrimination for a project's “foundation shippers” to receive favorable rate treatment compared with other shippers in the same project.

The Commission has not yet determined whether the public interest would be served by conducting the rulemaking proposed by the petitioners and, in its discretion, brings this petition to the attention of the public. This notice is not a notice of proposed rulemaking, but merely provides the public with an opportunity to comment in writing on the question of whether the Commission should take further action on the petition. Any person desiring to be heard with reference to the petition should file comments on or before January 17, 2006.

The petition is on file with the Commission and open to public inspection at the Commission's Public Reference Room or may be viewed on the Commission's Web site at http:/www.ferc.gov using the “eLibrary” link. Enter the docket number field to access the document. For assistance, please contact FERC Online Support at FERCOnlineSupport@ferc.gov or toll free at (866) 208-3676, or for TTY, contact (202) 502-8659.

The Commission strongly encourages electronic filings of comments via the Internet in lieu of paper. See 18 CFR 385.2001(a)(1)(iii) and the instructions on the Commission's Web site (http://www.ferc.gov) under the “e-Filing” link.

Nora E. Donovan,
Management Analyst.

[FR Doc. E5-7100 Filed 12-8-05; 8:45 am]

BILLING CODE 6717-01-P